DEPARTMENT OF TRANSPORTATION

Federal Aviation Administration

[Docket No. FAA-2025-0960]

Agency Information Collection Activities: Requests for Comments; Clearance of New Approval of Information Collection: Physiology Training Record

AGENCY: Federal Aviation Administration (FAA), DOT.

ACTION: Notice and request for comments.

SUMMARY: In accordance with the Paperwork Reduction Act of 1995, FAA invites public comments about our intention to request the Office of Management and Budget (OMB) approval new information collection. The information collected on the Physiology Training Record is required by students attending aviation physiology training that wish to participate in hypoxia training. Information collected is reviewed by the training instructor and a member of the Airman Education Program team to ensure those desiring to participate in this training have the necessary aviation medical qualification.

DATES: Written comments should be submitted by July 14, 2025.

ADDRESSES: Please send written comments:

By Electronic Docket: www.regulations.gov (Enter docket number into search field).

By mail: Civil Aerospace Medical Institute, Aerospace Medical Education (AAM-400), 6500 South MacArthur Blvd., Room 302, Oklahoma City, OK 73169.

By fax: 405-954-2305.

FOR FURTHER INFORMATION CONTACT: Eric Simson by email at: eric.simson@faa.gov; phone: 405-954-6198.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Physiology Training Record.

Form Numbers: FAA 3150-2.

Type of Review: Clearance of a new information collection.

Background: Aviation physiology training is offered by the Civil Aerospace Medical Institute (CAMI) as is outlined in AC 61-107B (2-8.). The authority for collecting this information is contained in 49 U.S.C. 44703, and 14 CFR 61.31. The data on the Physiology Training Record is required to verify that a person can safely enter an oxygen deprived training environment created by hypobaric or normobaric means without an expectation of experiencing unintentional negative results. This includes an increased/accelerated onset of hypoxia, issues (e.g., barotrauma, decompression sickness) resulting from reduced barometric pressure or any other debilitating issue while experiencing their symptoms of hypoxia in a training environment.

Students voluntarily enroll in the aviation physiology course, which is offered to aircrew with an FAA Class 1, 2 or 3 aviation medical certificate or are flying under the BasicMed program and are at least 18 years of age. The goal is that those individuals will have a greater understanding of the stressors in an aviation environment that could affect the onset of hypoxia with the ability to experience their personal symptoms. Doing this should allow them to respond more quickly and correctly in an actual aviation situation.

Respondents: Student possessing a Class, 1, 2 or 3 aviation medical certificate or are flying under the BasicMed program and are at least 18 years of age. It is estimated that this document will be completed by 2,500 to 3,000 students.

Frequency: Bi-weekly to Monthly.

Estimated Average Burden per Response: 18 seconds per response, 5 minutes to complete all responses per student.

Estimated Total Annual Burden: 270 hours annually.

Issued in Oklahoma City, OK on May 7th, 2025.
Stephanie Terry,
Administrative Officer, Office of Aerospace Management, Program Management Staff (AAM-006).

[FR Doc. 2025-08451 Filed 5-13-25; 8:45 am]

BILLING CODE 4910-13-P